DEPARTMENT OF TRANSPORTATION

Federal Aviation Administration

Cancellation Notice for RTCA Government/Industry Free Flight Steering Committee Meeting

AGENCY: Federal Aviation Administration (FAA), DOT.

ACTION: Notice of cancellation of RTCA/Industry Free Flight Steering Committee Meeting.

SUMMARY: The FAA is issuing this notice to advise the public of the cancellation of the RTCA Government/Industry Free Flight Steering Committee.

CANCELLATION: The December 4, 2003 meeting announced in the Federal Register has been canceled. The revised date and location, if any, will be announced later.

FOR FURTHER INFORMATION CONTACT: (1) RTCA Secretariat, 1828 L Street, NW., Suite 805, Washington, DC, 20036; telephone (202) 833-9339; fax (202) 833-9434; Web site http://www.rtca.org.

Issued in Washington, DC, on December 1, 2003.
Robert Zoldos,
FAA System Engineer, RTCA Advisory Committee.

[FR Doc. 03-30648 Filed 12-10-03; 8:45 am]

BILLING CODE 4910-13-M